DEPARTMENT OF VETERANS AFFAIRS

Scientific Merit Review Board, Health Services Research and Development Service; Federal Register Notice of Meeting

The Department of Veterans Affairs (VA) gives notice under the Federal Advisory Committee Act, 5 U.S.C. 10, that a meeting of the Health Services Research and Development Service Scientific (HSRD) Merit Review Board (hereinafter, “the Board”) will be held on Monday, March 18, 2024, via WebEx from 12-1:30 p.m. EST. The meeting will be partially closed to the public, with an open portion from 12-12:15 p.m. EST. The closed portion, from 12:15-1:30 p.m. EST, will be used for discussion, examination of and reference to the research applications and scientific review. Discussions will involve reference to staff and consultant critiques of research proposals. Discussions will also cover the scientific merit of each proposal and the qualifications of the personnel conducting the studies, the disclosure of which would constitute a clearly unwarranted invasion of personal privacy. Additionally, premature disclosure of research information could significantly obstruct implementation of proposed agency action regarding the research proposals. As provided by Public Law 92-463 subsection 10(d), and amended by Public Law 94-409, closing the committee meeting is in accordance with 5 U.S.C. 552b(c)(6) and (9)(B).

The objective of the Board is to provide for the fair and equitable selection of the most meritorious research projects for support by VA research funds and to offer advice for research program officials on program priorities and policies. The ultimate objective of the Board is to ensure that the VA HSRD program promotes functional independence and improves the quality of life for impaired and disabled Veterans.

Board members advise the Director of HSRD and the Chief Research and Development Officer on the scientific and technical merit, mission relevance and protection of human subjects of HSRD proposals. The Board does not consider grants, contracts or other forms of extramural research.

Members of the public may attend the open portion of the meeting via WebEx in listen-only mode, as the time-limited open agenda does not allow for public comment presentations. To attend the open portion of the meeting (12-12:15 p.m. EST), the public may join by dialing the phone number (1-833-558-0712) and entering the meeting number/access code (2761 198 6545).

Written comments from members of the public must be sent to Tiffin Ross-Shepard, Designated Federal Officer, HSRD, Department of Veterans Affairs (14RDH), 810 Vermont Avenue NW, Washington, DC 20420, or to Tiffin.Ross-Shepard@va.gov at least five days before the meeting. The public comments will be shared with the Board members. The public may not attend the closed portion of the meeting, as disclosure of research information could significantly obstruct implementation of proposed agency action regarding the research proposals. As provided by Public Law 92-463 subsection 10(d), and amended by Public Law 94-409, closing the committee meeting is in accordance with title 5 U.S.C. 552b(c)(6) and (9)(B).

Dated: January 29, 2024.
LaTonya L. Small,
Federal Advisory Committee Management Officer.

[FR Doc. 2024-02006 Filed 1-31-24; 8:45 am]

BILLING CODE P